DEPARTMENT OF HOUSING AND URBAN DEVELOPMENT

[Docket No. FR-5186-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Kathryn Halvorson, Air Force Real Property Agency, 1700 North Moore St., Suite 2300, Arlington, VA 22209; (703) 696-5502; Commerce: Mr. Paul Walden, Department of Commerce, Office of Real Estate, 14th & Constitution Ave., NW., Washington, DC 20230; (202) 482-8033; Energy: Mr. Mark Price, Department of Energy, Office of Engineering & Construction Management, MA-50, 1000 Independence Ave., SW., Washington, DC 20585: (202) 586-5422; GSA: Mr. John Smith, Deputy Assistant Commissioner, General Services Administration, Office of Property Disposal, 18th & F Streets, NW., Washington, DC 20405; (202) 501-0084; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: September 18, 2008.
Mark R. Johnston,
Deputy Assistant Secretary for Special Needs.

TITLE V, FEDERAL SURPLUS PROPERTY PROGRAM FEDERAL REGISTER REPORT FOR 09/26/2008

Suitable/Available Properties

Building

California

Facility 1

OTHB Radar Site

Tulelake CA 91634

Landholding Agency: Air Force

Property Number: 18200830012

Status: Unutilized

Comments: 7920 sq. ft., most recent use—communications

Facility 2

OTHB Radar Site

Tulelake CA 91634

Landholding Agency: Air Force

Property Number: 18200830014

Status: Unutilized

Comments: 900 sq. ft., most recent use—veh maint shop

Facilities 3, 4

OTHB Radar Site

Tulelake CA 91634

Landholding Agency: Air Force

Property Number: 18200830015

Status: Unutilized

Comments: 4160 sq. ft. each, most recent use—communications

Suitable/Available Properties

Building

California

Facility 1

OTHB Radar Site

Christmas Valley CA 97641

Landholding Agency: Air Force

Property Number: 18200830016

Status: Unutilized

Comments: 16566 sq. ft., most recent use—communications

Facility 2

OTHB Radar Site

Christmas Valley CA 97641

Landholding Agency: Air Force

Property Number: 18200830017

Status: Unutilized

Comments: 900 sq. ft., most recent use—veh maint shop

Facility 4

OTHB Radar Site

Christmas Valley CA 97641

Landholding Agency: Air Force

Property Number: 18200830018

Status: Unutilized

Comments: 14,190 sq. ft., most recent use—communications

Facility 6

OTHB Radar Site

Christmas Valley CA 97641

Landholding Agency: Air Force

Property Number: 18200830019

Status: Unutilized

Comments: 14,190 sq. ft., most recent use—transmitter bldg.

Suitable/Available Properties

Building

Indiana

Radio Tower

Cannelton Locks & Dam

Perry IN

Landholding Agency: GSA

Property Number: 54200830020

Status: Excess

GSA Number: 1-D-IN-569E

Comments: tower/88 sq. ft. comm storage bldg., heavily wooded area

Ohio

NIKE Site Cd-46

Felicity OH

Landholding Agency: GSA

Property Number: 31200740015

Status: Excess

GSA Number: 1-D-OH-0832

Comments: 8 bldgs., most recent use—Ohio Air Natl Guard site

Land

Colorado

Outer Marker—2.8 acres

Denver OUF

Denver CO

Landholding Agency: GSA

Property Number: 54200830022

Status: Surplus

GSA Number: 7-U-CO-0674

Comments: 2.8 acres

Suitable/Available Properties

Land

Colorado

Outer Marker—0.084 acres

Denver JOY

Denver CO

Landholding Agency: GSA

Property Number: 54200830023

Status: Surplus

GSA Number: 7-U-CO-0675

Comments: 0.084 acres

Outer Marker—0.39 acres

Denver FUI

Denver CO

Landholding Agency: GSA

Property Number: 54200830024

Status: Surplus

GSA Number: 7-U-CO-0673

Comments: 0.3 acres

Outer Marker—0.39 acres

Denver DPP

Denver CO

Landholding Agency: GSA

Property Number: 54200830025

Status: Surplus

GSA Number: 7-U-CO-0676

Comments: 0.39 acres

Suitable/Available Properties

Land

Massachusetts

FAA Site

Massasoit Bridge Rd.

Nantucket MA 02554

Landholding Agency: GSA

Property Number: 54200830026

Status: Surplus

GSA Number: MA-0895

Comments: approx 92 acres, entire parcel within MA Division of Fisheries & Wildlife Natural Heritage & Endangered Species Program

Washington

6798 sq. ft. land

Navy Region Northwest

Bremerton WA

Landholding Agency: Navy

Property Number: 77200830024

Status: Unutilized

Comments: vacant land

Suitable/Unavailable Properties

Building

Hawaii

Bldg. 2652

Navy Aloha Center

Pearl Harbor HI 96860

Landholding Agency: Navy

Property Number: 77200710039

Status: Underutilized

Comments: 9125 sq. ft., most recent use—office

Unsuitable Properties

Building

Alaska

Bldgs. 1437, 1190, 2375

Eielson AFB

Eielson AK

Landholding Agency: Air Force

Property Number: 18200830001

Status: Unutilized

Reasons: Extensive deterioration Secured Area

Unsuitable Properties

Building

Alaska

5 Bldgs.

Eielson AFB

Eielson AK

Landholding Agency: Air Force

Property Number: 18200830002

Status: Unutilized

Directions: 3300, 3301, 3315, 3347, 3383

Reasons: Secured Area, Extensive deterioration

4 Bldgs.

Eielson AFB

Eielson AK

Landholding Agency: Air Force

Property Number: 18200830003

Status: Unutilized

Directions: 4040, 4332, 4333, 4480

Reasons: Extensive deterioration, Secured Area

Bldgs. 6122, 6205

Eielson AFB

Eielson AK

Landholding Agency: Air Force

Property Number: 18200830004

Status: Unutilized

Reasons: Secured Area, Extensive deterioration

Unsuitable Properties

Building

Alaska

Bldg. 8128

Elmendorf AFB

Elmendorf AK 99506

Landholding Agency: Air Force

Property Number: 18200830005

Status: Underutilized

Reasons: Secured Area

California

Bldgs. 1989, 8430, 22012

Vandenberg AFB

Santa Barbara CA 93437

Landholding Agency: Air Force

Property Number: 18200830006

Status: Unutilized

Reasons: Secured Area

10 Bldgs.

Lawrence Livermore Natl Lab

Livermore CA

Landholding Agency: Energy

Property Number: 41200830002

Status: Excess

Directions: 2127, 4302, 4377, 4378, 4383, 5225, 5976, 5979, 5980, 6203

Reasons: Secured Area, Within 2000 ft. of flammable or explosive material

Unsuitable Properties

Building

California

Bldg. 2533

Marine Corps Base

Camp Pendleton CA 92055

Landholding Agency: Navy

Property Number: 77200520005

Status: Excess

Reasons: Extensive deterioration, Secured Area

Bldg. 13111

Marine Corps Base

Camp Pendleton CA 92055

Landholding Agency: Navy

Property Number: 77200520006

Status: Excess

Reasons: Extensive deterioration, Secured Area

Bldgs. 53325, 53326

Marine Corps Base

Camp Pendleton CA 92055

Landholding Agency: Navy

Property Number: 77200520007

Status: Excess

Reasons: Extensive deterioration, Secured Area

Unsuitable Properties

Building

California

5 Bldgs.

Marine Corps Base

53421, 53424 thru 53427

Camp Pendleton CA 92055

Landholding Agency: Navy

Property Number: 77200520008

Status: Excess

Reasons: Extensive deterioration, Secured Area

Bldgs. 61311, 61313, 61314

Marine Corps Base

Camp Pendleton CA 92055

Landholding Agency: Navy

Property Number: 77200520009

Status: Excess

Reasons: Extensive deterioration, Secured Area

Bldgs. 61320-61324, 61326

Marine Corps Base

Camp Pendleton CA 92055

Landholding Agency: Navy

Property Number: 77200520010

Status: Excess

Reasons: Secured Area, Extensive deterioration

Unsuitable Properties

Building

California

Bldgs. 62711 thru 62717

Marine Corps Base

Camp Pendleton CA 92055

Landholding Agency: Navy

Property Number: 77200520011

Status: Excess

Reasons: Secured Area, Extensive deterioration

Bldgs. 4

Naval Submarine Base

Point Loma CA

Landholding Agency: Navy

Property Number: 77200520014

Status: Unutilized

Reasons: Extensive deterioration

Bldgs. 8915, 8931

Naval Weapons Station

Seal Beach CA 90740

Landholding Agency: Navy

Property Number: 77200530004

Status: Excess

Reasons: Extensive deterioration

Bldgs. 11, 112

Naval Weapons Station

Seal Beach CA 90740

Landholding Agency: Navy

Property Number: 77200530005

Status: Unutilized

Reasons: Extensive deterioration

Unsuitable Properties

Building

California

Bldg. 805

Naval Weapons Station

Seal Beach CA 90740

Landholding Agency: Navy

Property Number: 77200530006

Status: Unutilized

Reasons: Extensive deterioration

Bldgs. 810 thru 823

Naval Weapons Station

Seal Beach CA 90740

Landholding Agency: Navy

Property Number: 77200530007

Status: Unutilized

Reasons: Extensive deterioration

Bldgs. 851, 859, 864

Naval Weapons Station

Seal Beach CA 90740

Landholding Agency: Navy

Property Number: 77200530008

Status: Unutilized

Reasons: Extensive deterioration

Bldg. 1146

Naval Base

Port Hueneme Co: Ventura CA 93042

Landholding Agency: Navy

Property Number: 77200530009

Status: Unutilized

Reasons: Extensive deterioration

Unsuitable Properties

Building

California

Bldgs. 1370, 1371, 1372

Naval Base

Port Hueneme Co: Ventura CA 93042

Landholding Agency: Navy

Property Number: 77200530011

Status: Unutilized

Reasons: Extensive deterioration

Bldg. 115

Naval Base

San Diego CA

Landholding Agency: Navy

Property Number: 77200530012

Status: Excess

Reasons: Extensive deterioration

Bldg. 1674

Marine Corps Base

Camp Pendletoon CA 92055

Landholding Agency: Navy

Property Number: 77200530027

Status: Excess

Reasons: Secured Area, Extensive deterioration

Unsuitable Properties

Building

California

Bldgs. 2636, 2651, 2658

Marine Corps Base

Camp Pendleton CA 92055

Landholding Agency: Navy

Property Number: 77200530028

Status: Excess

Reasons: Extensive deterioration, Secured Area

4 Bldgs.

Marine Corps Base

Camp Pendleton CA 92055

Landholding Agency: Navy

Property Number: 77200530029

Status: Excess

Directions: 26053, 26054, 26056, 26059

Reasons: Secured Area, Extensive deterioration

Bldgs. 53333, 53334

Marine Corps Base

Camp Pendleton CA 92055

Landholding Agency: Navy

Property Number: 77200530030

Status: Excess

Reasons: Secured Area, Extensive deterioration

Unsuitable Properties

Building

California

Bldgs. 53507, 53569

Marine Corps Base

Camp Pendleton CA 92055

Landholding Agency: Navy

Property Number: 77200530031

Status: Excess

Reasons: Extensive deterioration, Secured Area

Bldg. 170111

Marine Corps Base

Camp Pendleton CA 92055

Landholding Agency: Navy

Property Number: 77200530032

Status: Excess

Reasons: Extensive deterioration, Secured Area

Bldg. PM4-3

Naval Base

Oxnard Co: Ventura CA 93042

Landholding Agency: Navy

Property Number: 77200530033

Status: Unutilized

Reasons: Extensive deterioration

Unsuitable Properties

Building

California

Bldg. 1781

Marine Corps Base

Camp Pendleton CA 92055

Landholding Agency: Navy

Property Number: 77200540001

Status: Excess

Reasons: Extensive deterioration, Secured Area

Bldgs. 398, 399, 404

Naval Base Point Loma

San Diego CA

Landholding Agency: Navy

Property Number: 77200540003

Status: Unutilized

Reasons: Extensive deterioration

Bldgs. 388, 389, 390, 391

Naval Base Point Loma

San Diego CA

Landholding Agency: Navy

Property Number: 77200540004

Status: Unutilized

Reasons: Extensive deterioration

Unsuitable Properties

Building

California

Bldg. 16

Naval Submarine Base

San Diego CA

Landholding Agency: Navy

Property Number: 77200540017

Status: Unutilized

Reasons: Secured Area, Within 2000 ft. of flammable or explosive material Extensive deterioration

Bldg. 325

Naval Base

Port Hueneme Co: Ventura CA 93043

Landholding Agency: Navy

Property Number: 77200610001

Status: Unutilized

Reasons: Within airport runway clear zone Secured Area, Extensive deterioration

Bldgs. 1647, 1648

Marine Corps Base

Camp Pendleton CA 92055

Landholding Agency: Navy

Property Number: 77200610010

Status: Excess

Reasons: Extensive deterioration

Unsuitable Properties

Building

California

Bldg. 1713

Marine Corps Base

Camp Pendleton CA 92055

Landholding Agency: Navy

Property Number: 77200610011

Status: Excess

Reasons: Extensive deterioration

Bldg. 220189

Marine Corps Base

Camp Pendleton CA 92055

Landholding Agency: Navy

Property Number: 77200610014

Status: Excess

Reasons: Extensive deterioration

Bldg. 2295

Marine Corps Base

Camp Pendleton CA 92055

Landholding Agency: Navy

Property Number: 77200610015

Status: Excess

Reasons: Extensive deterioration

Bldgs. 22115, 22116, 22117

Marine Corps Base

Camp Pendleton CA 92055

Landholding Agency: Navy

Property Number: 77200610016

Status: Excess

Reasons: Extensive deterioration

Unsuitable Properties

Building

California

Bldg. 143

Naval Air Station

Lemoore CA

Landholding Agency: Navy

Property Number: 77200610017

Status: Excess

Reasons: Extensive deterioration

Bldgs. 213, 243, 273

Naval Air Station

Lemoore CA

Landholding Agency: Navy

Property Number: 77200610018

Status: Excess

Reasons: Extensive deterioration

Bldg. 303

Naval Air Station

Lemoore CA

Landholding Agency: Navy

Property Number: 77200610019

Status: Excess

Reasons: Extensive deterioration

Bldg. 471

Naval Air Station

Lemoore CA

Landholding Agency: Navy

Property Number: 77200610020

Status: Excess

Reasons: Extensive deterioration

Unsuitable Properties

Building

California

Bldgs. 979, 928, 930

Naval Air Station

Lemoore CA

Landholding Agency: Navy

Property Number: 77200610021

Status: Excess

Reasons: Extensive deterioration

Bldgs. 999, 1000

Naval Air Station

Lemoore CA

Landholding Agency: Navy

Property Number: 77200610022

Status: Excess

Reasons: Extensive deterioration

Bldgs. 305, 353

Naval Base Point Loma

San Diego CA

Landholding Agency: Navy

Property Number: 77200610023

Status: Unutilized

Reasons: Extensive deterioration

Bldgs. 358, 359, 360, 361

Naval Base Point Loma

San Diego CA

Landholding Agency: Navy

Property Number: 77200610024

Status: Unutilized

Reasons: Extensive deterioration

Unsuitable Properties

Building

California

Bldg. 581

Naval Base Point Loma

San Diego CA

Landholding Agency: Navy

Property Number: 77200610026

Status: Unutilized

Reasons: Extensive deterioration

Bldgs. A25, A27

Naval Base Point Loma

San Diego CA

Landholding Agency: Navy

Property Number: 77200610027

Status: Unutilized

Reasons: Extensive deterioration

Bldgs. 31926, 31927, 31928

Marine Corps Base

Camp Pendleton CA 92055

Landholding Agency: Navy

Property Number: 77200610058

Status: Excess

Reasons: Extensive deterioration

Bldg. 41326

Marine Corps Base

Camp Pendleton CA 92055

Landholding Agency: Navy

Property Number: 77200610059

Status: Excess

Reasons: Extensive deterioration

Unsuitable Properties

Building

California

Bldg. 41816

Marine Corps Base

Camp Pendleton CA 92055

Landholding Agency: Navy

Property Number: 77200610060

Status: Excess

Reasons: Extensive deterioration

Bldgs. 1468, 1469

Naval Base

Port Hueneme Co: Ventura CA 93043

Landholding Agency: Navy

Property Number: 77200630002

Status: Unutilized

Reasons: Secured Area

Bldg. 30869

Naval Air Weapons Station

China Lake CA 93555

Landholding Agency: Navy

Property Number: 77200630005

Status: Excess

Reasons: Extensive deterioration, Secured Area

Unsuitable Properties

Building

California

Bldgs. 2-8, 3-10

Naval Base

Port Mugu Co: Ventura CA 93043

Landholding Agency: Navy

Property Number: 77200630009

Status: Unutilized

Reasons: Secured Area, Extensive deterioration

Bldgs. 6-11, 6-12, 6-819

Naval Base

Port Mugu Co: Ventura CA 93043

Landholding Agency: Navy

Property Number: 77200630010

Status: Unutilized

Reasons: Extensive deterioration, Secured Area

Bldg. 85

Naval Base

Port Mugu Co: Ventura CA 93043

Landholding Agency: Navy

Property Number: 77200630011

Status: Unutilized

Reasons: Secured Area, Extensive deterioration

Unsuitable Properties

Building

California

Bldgs. 120, 123

Naval Base

Port Mugu Co: Ventura CA 93043

Landholding Agency: Navy

Property Number: 77200630012

Status: Unutilized

Reasons: Secured Area, Extensive deterioration

Bldg. 724

Naval Base

Port Mugu Co: Ventura CA 93043

Landholding Agency: Navy

Property Number: 77200630013

Status: Unutilized

Reasons: Secured Area, Extensive deterioration

Bldg. 764

Naval Base

Port Mugu Co: Ventura CA 93043

Landholding Agency: Navy

Property Number: 77200630014

Status: Unutilized

Reasons: Secured Area

Unsuitable Properties

Building

California

Bldg. 115

Naval Base

Port Hueneme Co: Ventura CA 93042

Landholding Agency: Navy

Property Number: 77200630015

Status: Unutilized

Reasons: Extensive deterioration, Secured Area

Bldg. 323

Naval Base

Port Hueneme Co: Ventura CA 93042

Landholding Agency: Navy

Property Number: 77200630016

Status: Unutilized

Reasons: Extensive deterioration, Secured Area

Bldg. 488

Naval Base

Port Hueneme Co: Ventura CA 93042

Landholding Agency: Navy

Property Number: 77200630017

Status: Unutilized

Reasons: Extensive deterioration, Secured Area

Unsuitable Properties

Building

California

Bldg. 842

Naval Base

Port Hueneme Co: Ventura CA 93042

Landholding Agency: Navy

Property Number: 77200630018

Status: Unutilized

Reasons: Extensive deterioration, Secured Area

Bldg. 927

Naval Base

Port Hueneme Co: Ventura CA 93042

Landholding Agency: Navy

Property Number: 77200630019

Status: Unutilized

Reasons: Secured Area, Extensive deterioration

Bldg. 1150

Naval Base

Port Hueneme Co: Ventura CA 93042

Landholding Agency: Navy

Property Number: 77200630020

Status: Unutilized

Reasons: Secured Area, Extensive deterioration

Unsuitable Properties

Building

California

Bldg. 1361

Naval Base

Port Hueneme Co: Ventura CA 93042

Landholding Agency: Navy

Property Number: 77200630021

Status: Unutilized

Reasons: Secured Area, Extensive deterioration

Bldg. PH546

Naval Base

Port Hueneme Co: Ventura CA 93043

Landholding Agency: Navy

Property Number: 77200640027

Status: Unutilized

Reasons: Secured Area, Extensive deterioration

Bldg. PH425

Naval Base

Port Hueneme Co: Ventura CA 93043

Landholding Agency: Navy

Property Number: 77200710001

Status: Unutilized

Reasons: Secured Area, Extensive deterioration

Unsuitable Properties

Building

California

Bldg. PM 134

Naval Base

Point Mugu Co: Ventura CA 93043

Landholding Agency: Navy

Property Number: 77200710023

Status: Unutilized

Reasons: Secured Area, Extensive deterioration

Bldgs. PH837, PH1372

Naval Base

Port Hueneme Co: Ventura CA 93043

Landholding Agency: Navy

Property Number: 77200710024

Status: Unutilized

Reasons: Secured Area, Extensive deterioration

Bldg. 523107

Marine Corps Base

Camp Pendleton CA 92055

Landholding Agency: Navy

Property Number: 77200710025

Status: Excess

Reasons: Extensive deterioration

Unsuitable Properties

Building

California

6 Bldgs.

Marine Corps Base

Camp Pendleton CA 92055

Landholding Agency: Navy

Property Number: 77200710026

Status: Excess

Directions: 523112, 523113, 523114, 523115, 523116, 523117

Reasons: Extensive deterioration

6 Bldgs.

Marine Corps Base

Camp Pendleton CA 92055

Landholding Agency: Navy

Property Number: 77200710027

Status: Excess

Directions: 523122, 523123, 523124, 523125, 523126, 523127

Reasons: Extensive deterioration

6 Bldgs.

Marine Corps Base

Camp Pendleton CA 92055

Landholding Agency: Navy

Property Number: 77200710028

Status: Excess

Directions: 523132, 523133, 523134, 523135, 523136, 523137

Reasons: Extensive deterioration

Unsuitable Properties

Building

California

6 Bldgs.

Marine Corps Base

Camp Pendleton CA 92055

Landholding Agency: Navy

Property Number: 77200710029

Status: Excess

Directions: 523142, 523143, 523144, 523145, 523146, 523147

Reasons: Extensive deterioration

Bldgs. 523156, 523157

Marine Corps Base

Camp Pendleton CA 92055

Landholding Agency: Navy

Property Number: 77200710030

Status: Excess

Reasons: Extensive deterioration

Bldg. 30726

Naval Air Weapons

China Lake CA 93555

Landholding Agency: Navy

Property Number: 77200710047

Status: Excess

Reasons: Secured Area

Unsuitable Properties

Building

California

Bldgs. PH284, PH339

Naval Base

Port Hueneme Co: Ventura CA 93043

Landholding Agency: Navy

Property Number: 77200720001

Status: Unutilized

Reasons: Extensive deterioration, Secured Area

Bldgs. PH805, PH1179

Naval Base

Port Hueneme Co: Ventura CA 93043

Landholding Agency: Navy

Property Number: 77200720002

Status: Unutilized

Reasons: Secured Area; Extensive deterioration

Bldgs. PH1207, PH1264, PH1288

Naval Base

Port Hueneme Co: Ventura CA 93043

Landholding Agency: Navy

Property Number: 77200720003

Status: Unutilized

Reasons: Extensive deterioration, Secured Area

Unsuitable Properties

Building

California

Bldgs. PM 3-53, PM129, PM402

Naval Base

Port Mugu Co: Ventura CA 93043

Landholding Agency: Navy

Property Number: 77200720004

Status: Unutilized

Reasons: Extensive deterioration, Secured Area

Bldg. LP908

Naval Base

Laguna Peak

Port Mugu Co: Ventura CA 93043

Landholding Agency: Navy

Property Number: 77200720005

Status: Unutilized

Reasons: Secured Area; Extensive deterioration

Bldg. PM790

Naval Base

Oxnard CA 93043

Landholding Agency: Navy

Property Number: 77200720006

Status: Unutilized

Reasons: Extensive deterioration, Secured Area

Unsuitable Properties

Building

California

Bldg. 53402

Marine Corps Base

Camp Pendleton CA 92055

Landholding Agency: Navy

Property Number: 77200720007

Status: Excess

Reasons: Extensive deterioration, Secured Area

Bldg. 307

Naval Base

San Diego CA

Landholding Agency: Navy

Property Number: 77200720009

Status: Excess

Reasons: Secured Area

Bldg. 3135

Naval Base

San Diego CA

Landholding Agency: Navy

Property Number: 77200720010

Status: Excess

Reasons: Secured Area

Bldgs. 30727, 31409

Naval Air Weapons Station

China Lake CA 93555

Landholding Agency: Navy

Property Number: 77200720011

Status: Excess

Reasons: Secured Area

Unsuitable Properties

Building

California

Bldgs. 60142, 60158

Naval Base Coronado

San Clemente Island CA

Landholding Agency: Navy

Property Number: 77200720012

Status: Unutilized

Reasons: Not accessible by road; Extensive deterioration

Bldgs. 60160, 60162, 60164

Naval Base Coronado

San Clemente Island CA

Landholding Agency: Navy

Property Number: 77200720013

Status: Unutilized

Reasons: Extensive deterioration

Bldgs. 60203, 60210, 60211

Naval Base Coronado

San Clemente Island CA

Landholding Agency: Navy

Property Number: 77200720014

Status: Unutilized

Reasons: Extensive deterioration

Bldgs. 60214, 60215

Naval Base Coronado

San Clemente Island CA

Landholding Agency: Navy

Property Number: 77200720015

Status: Unutilized

Reasons: Extensive deterioration

Unsuitable Properties

Building

California

Bldgs. 60227, 60243, 60250

Naval Base Coronado

San Clemente Island CA

Landholding Agency: Navy

Property Number: 77200720016

Status: Unutilized

Reasons: Extensive deterioration

Bldg. 60313

Naval Base Coronado

San Clemente Island CA

Landholding Agency: Navy

Property Number: 77200720017

Status: Unutilized

Reasons: Extensive deterioration

Bldg. 404

Naval Air Station

North Island CA

Landholding Agency: Navy

Property Number: 77200720032

Status: Unutilized

Reasons: Extensive deterioration

Bldg. 3267

Naval Base

San Diego CA

Landholding Agency: Navy

Property Number: 77200720039

Status: Unutilized

Reasons: Secured Area

Unsuitable Properties

Building

California

Bldgs. 11090, 98033

Naval Air Weapons

China Lake CA 93555

Landholding Agency: Navy

Property Number: 77200720054

Status: Excess

Reasons: Secured Area; Extensive deterioration

Bldgs. 41314, 41362

Marine Corps Base

Camp Pendleton CA 92055

Landholding Agency: Navy

Property Number: 77200720055

Status: Excess

Reasons: Extensive deterioration

Bldgs. 192, 193, 410

Naval Base

San Diego CA

Landholding Agency: Navy

Property Number: 77200720063

Status: Excess

Reasons: Secured Area

Bldg. 415

Naval Base

San Diego CA

Landholding Agency: Navy

Property Number: 77200730013

Status: Unutilized

Reasons: Secured Area

Unsuitable Properties

Building

California

Bldgs. 3363, 3364

Naval Base

San Diego CA

Landholding Agency: Navy

Property Number: 77200730014

Status: Unutilized

Reasons: Secured Area

4 Bldgs.

Naval Base

3185D, 3222, 3251, 3309

San Diego CA

Landholding Agency: Navy

Property Number: 77200730015

Status: Unutilized

Reasons: Secured Area

Portion/Bldg. T17

Naval Base Point Loma

San Diego CA

Landholding Agency: Navy

Property Number: 77200730016

Status: Underutilized

Reasons: Secured Area

Bldg. 297

Naval Base

San Diego CA

Landholding Agency: Navy

Property Number: 77200730017

Status: Unutilized

Reasons: Secured Area

Unsuitable Properties

Building

California

Bldgs. 13, 87

Naval Air Station

Coronado Co: San Diego CA

Landholding Agency: Navy

Property Number: 77200730022

Status: Excess

Reasons: Secured Area, Extensive deterioration

Bldg. 243

Naval Air Station

Coronado Co: San Diego CA

Landholding Agency: Navy

Property Number: 77200730023

Status: Excess

Reasons: Secured Area, Extensive deterioration

Bldg. 381

Naval Air Station

Coronado Co: San Diego CA

Landholding Agency: Navy

Property Number: 77200730024

Status: Excess

Reasons: Secured Area

Unsuitable Properties

Building

California

4 Bldgs.

Naval Air Station

493, 663, 682, 784

Coronado Co: San Diego CA

Landholding Agency: Navy

Property Number: 77200730025

Status: Excess

Reasons: Secured Area, Extensive deterioration

Bldg. 809

Naval Air Station

Coronado Co: San Diego CA

Landholding Agency: Navy

Property Number: 77200730026

Status: Excess

Reasons: Secured Area

Bldg. 983

Naval Air Station

Coronado Co: San Diego CA

Landholding Agency: Navy

Property Number: 77200730027

Status: Excess

Reasons: Secured Area

Unsuitable Properties

Building

California

Bldg. 1459

Naval Air Station

Coronado Co: San Diego CA

Landholding Agency: Navy

Property Number: 77200730028

Status: Excess

Reasons: Secured Area, Extensive deterioration

Bldg. 334

Naval Base

San Diego CA

Landholding Agency: Navy

Property Number: 77200730029

Status: Excess

Reasons: Secured Area

Bldgs. 124, 148

Naval Air Station

North Island CA

Landholding Agency: Navy

Property Number: 77200740002

Status: Excess

Reasons: Secured Area

Bldgs. 314, 341, 636

Naval Air Station

North Island CA

Landholding Agency: Navy

Property Number: 77200740003

Status: Excess

Reasons: Secured Area

Unsuitable Properties

Building

California

Bldgs. 710, 802, 826

Naval Air Station

North Island CA

Landholding Agency: Navy

Property Number: 77200740004

Status: Excess

Reasons: Secured Area

Bldgs. 60139, 60180

Naval Air Station

San Clemente CA

Landholding Agency: Navy

Property Number: 77200740005

Status: Excess

Reasons: Secured Area

Bldgs. 41313, 41314

Marine Corps Base

Camp Pendleton CA 92055

Landholding Agency: Navy

Property Number: 77200740006

Status: Excess

Reasons: Secured Area, Extensive deterioration

Unsuitable Properties

Building

California

4 Bldgs.

Marine Corps Base

41359, 41362, 41365, 41366

Camp Pendleton CA 92055

Landholding Agency: Navy

Property Number: 77200740007

Status: Excess

Reasons: Secured Area, Extensive deterioration

Bldg. 43976

Marine Corps Base

Camp Pendleton CA 92055

Landholding Agency: Navy

Property Number: 77200740008

Status: Excess

Reasons: Secured Area, Extensive deterioration

Bldgs. 53440, 53831

Marine Corps Base

Camp Pendleton CA 92055

Landholding Agency: Navy

Property Number: 77200740009

Status: Excess

Reasons: Secured Area, Extensive deterioration

Unsuitable Properties

Building

California

Bldg. 410365

Marine Corps Base

Camp Pendleton CA 92055

Landholding Agency: Navy

Property Number: 77200740010

Status: Excess

Reasons: Secured Area, Extensive deterioration

Bldg. 259

Naval Air Station

North Island CA

Landholding Agency: Navy

Property Number: 77200740015

Status: Excess

Reasons: Secured Area, Extensive deterioration

Marine Corps Base

Camp Pendleton CA 92055

Landholding Agency: Navy

Property Number: 77200740017

Status: Excess

Reasons: Extensive deterioration, Secured Area

Unsuitable Properties

Building

California

Bldg. 84

Naval Base

San Diego CA

Landholding Agency: Navy

Property Number: 77200740018

Status: Excess

Reasons: Secured Area

4 Bldgs.

Marine Corps Base

41312, 53426, 53427, 53430

Camp Pendleton CA 92055

Landholding Agency: Navy

Property Number: 77200810008

Status: Excess

Reasons: Extensive deterioration, Secured Area

Bldgs. 2537, 2538

Marine Corps Base

Camp Pendleton CA 92055

Landholding Agency: Navy

Property Number: 77200810009

Status: Excess

Reasons: Extensive deterioration

Unsuitable Properties

Building

California

Bldgs. 43286, 43287

Marine Corps Base

Camp Pendleton CA 92055

Landholding Agency: Navy

Property Number: 77200810010

Status: Excess

Reasons: Extensive deterioration

Bldg. 33007

Naval Air Weapons Station

China Lake CA

Landholding Agency: Navy

Property Number: 77200810011

Status: Excess

Reasons: Secured Area, Within 2000 ft. of flammable or explosive material

Bldgs. 22176, 62507, 410363

Marine Corps Base

Camp Pendleton CA

Landholding Agency: Navy

Property Number: 77200810021

Status: Excess

Reasons: Secured Area, Extensive deterioration

Unsuitable Properties

Building

California

Bldgs. 25261, 41342, 41344

Marine Corps Base

Camp Pendleton CA 92055

Landholding Agency: Navy

Property Number: 77200810026

Status: Excess

Reasons: Extensive deterioration, Secured Area

Bldg. 105

Naval Base

Point Loma Co: San Diego CA

Landholding Agency: Navy

Property Number: 77200820005

Status: Unutilized

Reasons: Secured Area, Extensive deterioration

Bldg. PH1230

Naval Base

Port Hueneme CA 93043

Landholding Agency: Navy

Property Number: 77200820021

Status: Unutilized

Reasons: Extensive deterioration

Unsuitable Properties

Building

California

Bldgs. 17, 37, 130

Naval Base

San Diego CA 92136

Landholding Agency: Navy

Property Number: 77200820023

Status: Excess

Reasons: Secured Area

Bldgs. 3053, 3328

Naval Base

San Diego CA 92136

Landholding Agency: Navy

Property Number: 77200820025

Status: Excess

Reasons: Secured Area

Bldgs. 3368, 3370

Naval Base

San Diego CA 92136

Landholding Agency: Navy

Property Number: 77200820026

Status: Excess

Reasons: Secured Area

Bldgs. 3591, 3592

Naval Base

San Diego CA 92136

Landholding Agency: Navy

Property Number: 77200820027

Status: Excess

Reasons: Secured Area

Unsuitable Properties

Building

California

Bldg. 3603

Naval Base

San Diego CA 92136

Landholding Agency: Navy

Property Number: 77200820028

Status: Excess

Reasons: Secured Area, Floodway

Bldg. PH1230

Naval Base

Port Hueneme CA 93043

Landholding Agency: Navy

Property Number: 77200820029

Status: Unutilized

Reasons: Extensive deterioration, Secured Area

Bldg. PM28

Naval Base

Point Mugu CA 93042

Landholding Agency: Navy

Property Number: 77200820030

Status: Unutilized

Reasons: Secured Area, Extensive deterioration

Unsuitable Properties

Building

California

Bldgs. PH5295, PH5297

Naval Base

Oxnard CA 93042

Landholding Agency: Navy

Property Number: 77200820031

Status: Unutilized

Reasons: Secured Area, Extensive deterioration

4 Bldgs.

Naval Base

Oxnard CA 93042

Landholding Agency: Navy

Property Number: 77200820032

Status: Unutilized

Directions: PH5303, PH5315, PH5318, PH5319

Reasons: Extensive deterioration, Secured Area

Bldgs. PH5323, PH5329

Naval Base

Oxnard CA 93042

Landholding Agency: Navy

Property Number: 77200820033

Status: Unutilized

Reasons: Extensive deterioration, Secured Area

Unsuitable Properties

Building

California

Bldgs. 25152, 41321, 41406

Marine Corps Base

Camp Pendleton CA 92055

Landholding Agency: Navy

Property Number: 77200830022

Status: Excess

Reasons: Secured Area, Extensive deterioration

Connecticut

Pier 1

Naval Submarine Base

New London CT

Landholding Agency: Navy

Property Number: 77200830018

Status: Excess

Reasons: Within 2000 ft. of flammable or explosive material; Secured Area

Bldg. 98

Naval Submarine Base

Groton CT 06349

Landholding Agency: Navy

Property Number: 77200830023

Status: Unutilized

Reasons: Secured Area, Within 2000 ft. of flammable or explosive material

Unsuitable Properties

Building

District of Columbia

Bldg. 396

Naval Support Facility

Anacostia Annex DC 20373

Landholding Agency: Navy

Property Number: 77200630008

Status: Unutilized

Reasons: Within 2000 ft. of flammable or explosive material, Secured Area

Bldg. W22

Washington Navy Yard

Washington DC 20374

Landholding Agency: Navy

Property Number: 77200820035

Status: Underutilized

Reasons: Secured Area

Florida

Bldg. U-150

Naval Air Station

Key West Co: Monroe FL 33040

Landholding Agency: Navy

Property Number: 77200520044

Status: Excess

Reasons: Extensive deterioration, Secured Area

Unsuitable Properties

Building

Florida

Bldgs. V1221 A

Naval Air Station

Sigsbee Park

Key West Co: Monroe FL 33040

Landholding Agency: Navy

Property Number: 77200530013

Status: Unutilized

Reasons: Extensive deterioration, Secured Area

Bldg. 969

Naval Air Station

Jacksonville Co: Duval FL 32212

Landholding Agency: Navy

Property Number: 77200540014

Status: Unutilized

Reasons: Secured Area

Bldgs. 1759, 1760

Naval Air Station

Jacksonville Co: Duval FL

Landholding Agency: Navy

Property Number: 77200540015

Status: Unutilized

Reasons: Secured Area

Unsuitable Properties

Building

Florida

Bldg. 1917

Naval Air Station

Jacksonville Co: Duval FL 32212

Landholding Agency: Navy

Property Number: 77200540016

Status: Unutilized

Reasons: Secured Area

Bldgs. 1, 2

Naval Station

Mayport Co: Duval FL 32228

Landholding Agency: Navy

Property Number: 77200540018

Status: Excess

Reasons: Secured Area, Floodway; Extensive deterioration

Bldg. 24

Naval Station

Mayport Co: Duval FL 32228

Landholding Agency: Navy

Property Number: 77200540019

Status: Excess

Reasons: Floodway, Extensive deterioration, Secured Area

Unsuitable Properties

Building

Florida

Bldg. 66

Naval Station

Mayport Co: Duval FL 32228

Landholding Agency: Navy

Property Number: 77200540020

Status: Excess

Reasons: Extensive deterioration, Floodway, Secured Area

Bldg. 216

Naval Station

Mayport Co: Duval FL 32228

Landholding Agency: Navy

Property Number: 77200540021

Status: Excess

Reasons: Floodway, Secured Area, Extensive deterioration

Bldgs. 437, 450

Naval Station

Mayport Co: Duval FL 32228

Landholding Agency: Navy

Property Number: 77200540022

Status: Excess

Reasons: Secured Area, Extensive deterioration, Floodway

Unsuitable Properties

Building

Florida

Bldgs. 1234, 1235

Naval Station

Mayport Co: Duval FL 32228

Landholding Agency: Navy

Property Number: 77200540023

Status: Excess

Reasons: Secured Area, Extensive deterioration, Floodway

Bldg. 212

Naval Station

Mayport Co: Duval FL 32228

Landholding Agency: Navy

Property Number: 77200620011

Status: Unutilized

Reasons: Floodway, Secured Area, Extensive deterioration

Bldg. 508

Naval Station

Mayport FL 32228

Landholding Agency: Navy

Property Number: 77200620035

Status: Unutilized

Reasons: Floodway, Secured Area

Unsuitable Properties

Building

Florida

Bldg. 834

Naval Air Station

Pensacola Co: Escambia FL 32508

Landholding Agency: Navy

Property Number: 77200630022

Status: Unutilized

Reasons: Extensive deterioration

Bldg. 2658

Naval Air Station

Pensacola Co: Escambia FL 32508

Landholding Agency: Navy

Property Number: 77200630023

Status: Unutilized

Reasons: Extensive deterioration

Bldg. 3483

Naval Air Station

Pensacola Co: Escambia FL 32508

Landholding Agency: Navy

Property Number: 77200630024

Status: Unutilized

Reasons: Extensive deterioration

Bldg. 6144

Naval Air Station

Pensacola Co: Escambia FL 32508

Landholding Agency: Navy

Property Number: 77200630025

Status: Unutilized

Reasons: Extensive deterioration

Unsuitable Properties

Building

Florida

Bldg. F11

Naval Air Station

Key West FL 33040

Landholding Agency: Navy

Property Number: 77200630026

Status: Unutilized

Reasons: Extensive deterioration, Secured Area

Bldgs. A225, A409

Naval Air Station

Key West FL 33040

Landholding Agency: Navy

Property Number: 77200630027

Status: Unutilized

Reasons: Extensive deterioration, Secured Area

Bldg. A515

Naval Air Station

Key West FL 33040

Landholding Agency: Navy

Property Number: 77200630028

Status: Unutilized

Reasons: Secured Area, Extensive deterioration

Unsuitable Properties

Building

Florida

Bldg. A635

Naval Air Station

Key West FL 33040

Landholding Agency: Navy

Property Number: 77200630029

Status: Unutilized

Reasons: Extensive deterioration, Secured Area

Bldgs. A993, A994

Naval Air Station

Key West FL 33040

Landholding Agency: Navy

Property Number: 77200630030

Status: Unutilized

Reasons: Extensive deterioration, Secured Area

Bldg. A1068

Naval Air Station

Key West FL 33040

Landholding Agency: Navy

Property Number: 77200630031

Status: Unutilized

Reasons: Secured Area, Extensive deterioration

Unsuitable Properties

Building

Florida

Bldg. A4021

Naval Air Station

Key West FL 33040

Landholding Agency: Navy

Property Number: 77200630032

Status: Unutilized

Reasons: Secured Area, Extensive deterioration

Bldg. 4080

Naval Air Station

Key West FL 33040

Landholding Agency: Navy

Property Number: 77200630033

Status: Unutilized

Reasons: Extensive deterioration, Secured Area

88 Facilities

Saufley Field

Pensacola FL 32508

Landholding Agency: Navy

Property Number: 77200740016

Status: Unutilized

Reasons: Within airport runway clear zone

Unsuitable Properties

Building

Florida

Bldgs. C5, A329

Naval Air Station

Key West FL 33040

Landholding Agency: Navy

Property Number: 77200810007

Status: Excess

Reasons: Secured Area, Extensive deterioration

Bldgs. 2, 5, 24, 26

Naval Air Station

Jacksonville Co: Duval FL

Landholding Agency: Navy

Property Number: 77200820006

Status: Unutilized

Reasons: Extensive deterioration, Secured Area

Bldgs. 104A, 136, 159

Naval Air Station

Jacksonville Co: Duval FL 32212

Landholding Agency: Navy

Property Number: 77200820007

Status: Unutilized

Reasons: Secured Area, Extensive deterioration

Unsuitable Properties

Building

Florida

6 Bldgs.

Naval Air Station

Jacksonville Co: Duval FL 32212

Landholding Agency: Navy

Property Number: 77200820008

Status: Unutilized

Directions: 323, 324, 338, 339, 347, 348

Reasons: Secured Area, Extensive deterioration

5 Bldgs.

Naval Air Station

Jacksonville Co: Duval FL 32212

Landholding Agency: Navy

Property Number: 77200820009

Status: Unutilized

Directions: 607, 612, 614B, 674, 675

Reasons: Extensive deterioration, Secured Area

Bldgs. 820, 890

Naval Air Station

Jacksonville Co: Duval FL 32212

Landholding Agency: Navy

Property Number: 77200820010

Status: Unutilized

Reasons: Secured Area, Extensive deterioration

Unsuitable Properties

Building

Florida

Bldgs. 1756, 1937

Naval Air Station

Jacksonville Co: Duval FL 32212

Landholding Agency: Navy

Property Number: 77200820011

Status: Unutilized

Reasons: Secured Area, Extensive deterioration

Georgia

Bldg. 5101

Naval Submarine Base

Kings Bay Co: Camden GA 31547

Landholding Agency: Navy

Property Number: 77200520004

Status: Unutilized

Reasons: Secured Area, Extensive deterioration, Floodway

Bldg. 0038

Naval Submarine Base

Kings Bay GA 31547

Landholding Agency: Navy

Property Number: 77200620036

Status: Unutilized

Reasons: Extensive deterioration, Secured Area

Unsuitable Properties

Building

Georgia

7 Bldgs.

Marine Logistics Base

Albany GA

Landholding Agency: Navy

Property Number: 77200720040

Status: Excess

Directions: 7100, 7106, 7108, 7110, 5584, 7964, 7966

Reasons: Secured Area

Guam

Bldg. 1094

AAFB Yigo

Yigo GU 96543

Landholding Agency: Air Force

Property Number: 18200830007

Status: Unutilized

Reasons: Extensive deterioration

Bldg. B-32

Naval Forces

Marianas GU

Landholding Agency: Navy

Property Number: 77200520023

Status: Unutilized

Reasons: Extensive deterioration

Unsuitable Properties

Building

Guam

Bldgs. 76, 77, 79

Naval Forces

Marianas GU

Landholding Agency: Navy

Property Number: 77200520024

Status: Unutilized

Reasons: Extensive deterioration

4 Bldgs.

Naval Forces

261, 262, 263, 269

Marianas GU

Landholding Agency: Navy

Property Number: 77200520025

Status: Unutilized

Reasons: Extensive deterioration

Bldg. 404NM

Naval Forces

Marianas GU

Landholding Agency: Navy

Property Number: 77200520026

Status: Unutilized

Reasons: Extensive deterioration

Bldgs. 3150, 3268

Naval Forces

Marianas GU

Landholding Agency: Navy

Property Number: 77200520030

Status: Unutilized

Reasons: Extensive deterioration

Unsuitable Properties

Building

Guam

Bldgs. 5409, 5412, 5413

Naval Forces

Marianas GU

Landholding Agency: Navy

Property Number: 77200520031

Status: Unutilized

Reasons: Extensive deterioration

Bldg. 5500

Naval Forces

Marianas GU

Landholding Agency: Navy

Property Number: 77200520032

Status: Unutilized

Reasons: Extensive deterioration

73 Bldgs.

Naval Computer Station

Marianas GU

Landholding Agency: Navy

Property Number: 77200520045

Status: Excess

Directions: A700-A716, A725, A728, A735, A741-A784, A803-A805, A811-A813, A829-A831

Reasons: Secured Area, Extensive deterioration

Unsuitable Properties

Building

Guam

Bldgs. 2006, 2009

Naval Ship Repair Facility

Marianas GU

Landholding Agency: Navy

Property Number: 77200520048

Status: Excess

Reasons: Extensive deterioration, Secured Area

Bldgs. 2014, 2916

Naval Ship Repair Facility

Marianas GU

Landholding Agency: Navy

Property Number: 77200520049

Status: Excess

Reasons: Extensive deterioration, Secured Area

Bldgs. 277, 308

Naval Forces Marianas

Santa Rita Co: Apra Harbor GU

Landholding Agency: Navy

Property Number: 77200610028

Status: Excess

Reasons: Secured Area

Unsuitable Properties

Building

Guam

Bldgs. 1686, 1689, 1690

Naval Forces Marianas

Santa Rita Co: Apra Harbor GU

Landholding Agency: Navy

Property Number: 77200610029

Status: Excess

Reasons: Secured Area

Bldgs. 1714, 1767, 1768

Naval Forces Marianas

Santa Rita Co: Apra Harbor GU

Landholding Agency: Navy

Property Number: 77200610030

Status: Excess

Reasons: Secured Area

Bldgs. 1771, 1772, 1773

Naval Forces Marianas

Santa Rita Co: Apra Harbor GU

Landholding Agency: Navy

Property Number: 77200610031

Status: Excess

Reasons: Secured Area

Bldgs. 1791, 1792

Naval Forces Marianas

Santa Rita Co: Apra Harbor GU

Landholding Agency: Navy

Property Number: 77200610032

Status: Excess

Reasons: Secured Area

Unsuitable Properties

Building

Guam

Bldgs. 3000, 3001

Naval Forces Marianas

Santa Rita Co: Apra Harbor GU

Landholding Agency: Navy

Property Number: 77200610033

Status: Excess

Reasons: Secured Area

Bldgs. 3002, 3004, 3005

Naval Forces Marianas

Santa Rita Co: Apra Harbor GU

Landholding Agency: Navy

Property Number: 77200610034

Status: Excess

Reasons: Secured Area

Bldgs. 3006, 3007

Naval Forces Marianas

Santa Rita Co: Apra Harbor GU

Landholding Agency: Navy

Property Number: 77200610035

Status: Excess

Reasons: Secured Area

Steam Plant

Naval Forces Marianas

Santa Rita Co: Apra Harbor GU

Landholding Agency: Navy

Property Number: 77200610036

Status: Excess

Reasons: Secured Area

Unsuitable Properties

Building

Guam

Bldgs. 403, 404

Marianas Support Activity

Santa Rita Co: Naval Magazine GU

Landholding Agency: Navy

Property Number: 77200620013

Status: Unutilized

Reasons: Secured Area

Bldgs. 464, 729

Marianas Support Activity

Santa Rita Co: Naval Magazine GU

Landholding Agency: Navy

Property Number: 77200620014

Status: Unutilized

Reasons: Secured Area

Bldgs. 836, 837

Marianas Support Activity

Santa Rita Co: Naval Magazine GU

Landholding Agency: Navy

Property Number: 77200620015

Status: Unutilized

Reasons: Extensive deterioration, Secured Area

Unsuitable Properties

Building

Guam

Bldg. 11XC7

Marianas Support Activity

Santa Rita Co: Naval Magazine GU

Landholding Agency: Navy

Property Number: 77200620016

Status: Unutilized

Reasons: Secured Area, Extensive deterioration

Bldgs. 23YC1, 23YC2, 23YC3

Marianas Support Activity

Santa Rita Co: Naval Magazine GU

Landholding Agency: Navy

Property Number: 77200620017

Status: Unutilized

Reasons: Secured Area, Extensive deterioration

Bldgs. 23YC4, 23YC5

Marianas Support Activity

Santa Rita Co: Naval Magazine GU

Landholding Agency: Navy

Property Number: 77200620018

Status: Unutilized

Reasons: Extensive deterioration, Secured Area

Unsuitable Properties

Building

Guam

Bldgs. 24YC7, 24YC8

Marianas Support Activity

Santa Rita Co: Naval Magazine GU

Landholding Agency: Navy

Property Number: 77200620019

Status: Unutilized

Reasons: Secured Area, Extensive deterioration

Bldgs. 26YC3, 26YC5

Marianas Support Activity

Santa Rita Co: Naval Magazine GU

Landholding Agency: Navy

Property Number: 77200620020

Status: Unutilized

Reasons: Secured Area, Extensive deterioration

Old Bus Stop

Marianas Support Activity

Santa Rita Co: Naval Magazine GU

Landholding Agency: Navy

Property Number: 77200620021

Status: Unutilized

Reasons: Secured Area, Extensive deterioration

Unsuitable Properties

Building

Guam

2 Guard Houses

Marianas Support Activity

Santa Rita Co: Naval Magazine GU

Landholding Agency: Navy

Property Number: 77200620022

Status: Unutilized

Reasons: Extensive deterioration Secured Area

9 Magazines

Marianas Support Activity

Santa Rita Co: Naval Magazine GU

Landholding Agency: Navy

Property Number: 77200620023

Status: Unutilized

Reasons: Extensive deterioration, Secured Area

Bldgs. 151, 152, 153

Naval Forces Marianas

Santa Rita Co: Apra Harbor GU

Landholding Agency: Navy

Property Number: 77200630001

Status: Unutilized

Reasons: Extensive deterioration,

Unsuitable Properties

Building

Guam

Bldg. 4

Naval Base

Barrigada GU

Landholding Agency: Navy

Property Number: 77200710002

Status: Unutilized

Reasons: Extensive deterioration

Bldg. C115

Naval Base

Barrigada GU

Landholding Agency: Navy

Property Number: 77200710003

Status: Unutilized

Reasons: Extensive deterioration

Bldg. 160

Naval Base

Barrigada GU

Landholding Agency: Navy

Property Number: 77200710004

Status: Unutilized

Reasons: Extensive deterioration

Bldg. 176

Naval Base

Barrigada GU

Landholding Agency: Navy

Property Number: 77200710005

Status: Unutilized

Reasons: Extensive deterioration

Unsuitable Properties

Building

Guam

Bldg. 33

Naval Base

Santa Rita Co: Apra Harbor GU

Landholding Agency: Navy

Property Number: 77200710006

Status: Excess

Reasons: Extensive deterioration

Bldg. 219

Naval Base

Santa Rita Co: Apra Harbor GU

Landholding Agency: Navy

Property Number: 77200710007

Status: Excess

Reasons: Extensive deterioration

Bldg. 950

Naval Base

Santa Rita Co: Apra Harbor GU

Landholding Agency: Navy

Property Number: 77200710008

Status: Excess

Reasons: Extensive deterioration

Bldg. 1769

Naval Base

Santa Rita Co: Apra Harbor GU

Landholding Agency: Navy

Property Number: 77200710009

Status: Excess

Reasons: Extensive deterioration

Unsuitable Properties

Building

Guam

Bldgs. 3186, 3187, 3188

Naval Base

Santa Rita Co: Apra Harbor GU

Landholding Agency: Navy

Property Number: 77200710010

Status: Excess

Reasons: Extensive deterioration

Bldgs. 4408, 4409

Naval Base

Santa Rita Co: Apra Harbor GU

Landholding Agency: Navy

Property Number: 77200710011

Status: Excess

Reasons: Extensive deterioration

Hazmat Storage

Naval Base

Polaris Point

Santa Rita Co: Apra Harbor GU

Landholding Agency: Navy

Property Number: 77200710012

Status: Excess

Reasons: Extensive deterioration

Unsuitable Properties

Building

Guam

Storage Bldg.

Naval Base

Polaris Point

Santa Rita Co: Apra Harbor GU

Landholding Agency: Navy

Property Number: 77200710013

Status: Excess

Reasons: Extensive deterioration

Hawaii

Bldg. 1713

Hickam AFB

Hickam HI

Landholding Agency: Air Force

Property Number: 18200830008

Status: Unutilized

Reasons: Extensive deterioration

Bldg. 346

Naval Station

Pearl Harbor HI 96860

Landholding Agency: Navy

Property Number: 77200610002

Status: Excess

Reasons: Extensive deterioration

Unsuitable Properties

Building

Hawaii

Bank

Marine Corps Base

Kaneohe Bay HI 96863

Landholding Agency: Navy

Property Number: 77200830019

Status: Unutilized

Reasons: Secured Area

Bldg. 136

Naval Station

Pearl Harbor HI 96860

Landholding Agency: Navy

Property Number: 77200830021

Status: Excess

Reasons: Secured Area, Within 2000 ft. of flammable or explosive material

Louisiana

Bldgs. 37, 89, 122

Naval Air Station

New Orleans LA 70143

Landholding Agency: Navy

Property Number: 77200810024

Status: Excess

Reasons: Extensive deterioration, Secured Area

Unsuitable Properties

Building

Louisiana

Bldgs. 159, 418, 902

Naval Air Station

New Orleans LA 70143

Landholding Agency: Navy

Property Number: 77200810025

Status: Excess

Reasons: Secured Area, Extensive deterioration

Bldg. 11

Naval Support Activity

New Orleans LA 70142

Landholding Agency: Navy

Property Number: 77200810027

Status: Excess

Reasons: Extensive deterioration, Secured Area

Maryland

Bldg. 84NS

Naval Support Activity

Annapolis Co: Anne Arundel MD 21402

Landholding Agency: Navy

Property Number: 77200610038

Status: Unutilized

Reasons: Within 2000 ft. of flammable or explosive material, Floodway

Unsuitable Properties

Building

Maryland

Bldg. 2075

Naval Surface Warfare

Indian Head MD

Landholding Agency: Navy

Property Number: 77200630043

Status: Excess

Reasons: Extensive deterioration

Mississippi

Bldg. 9

Construction Battalion Center

Gulfport MS

Landholding Agency: Navy

Property Number: 77200610039

Status: Unutilized

Reasons: Secured Area, Extensive deterioration

Bldgs. 22, 27, 41

Construction Battalion Center

Gulfport MS

Landholding Agency: Navy

Property Number: 77200610040

Status: Unutilized

Reasons: Secured Area, Extensive deterioration

Unsuitable Properties

Building

Mississippi

Bldgs. 108, 181, 183

Construction Battalion Center

Gulfport MS

Landholding Agency: Navy

Property Number: 77200610041

Status: Unutilized

Reasons: Extensive deterioration, Secured Area

Bldg. 201

Construction Battalion Center

Gulfport MS

Landholding Agency: Navy

Property Number: 77200610042

Status: Unutilized

Reasons: Extensive deterioration, Secured Area

Bldgs. 270, 270A-1, 270A-2

Construction Battalion Center

Gulfport MS

Landholding Agency: Navy

Property Number: 77200610043

Status: Unutilized

Reasons: Extensive deterioration, Secured Area

Unsuitable Properties

Building

Mississippi

Bldgs. 375, 420

Construction Battalion Center

Gulfport MS

Landholding Agency: Navy

Property Number: 77200610044

Status: Unutilized

Reasons: Secured Area, Extensive deterioration

Bldgs. 95, 96

Naval Air Station

Meridian MS 39309

Landholding Agency: Navy

Property Number: 77200720046

Status: Unutilized

Reasons: Within airport runway clear zone Secured Area, Within 2000 ft. of flammable or explosive material

Bldg. 167

Naval Air Station

Meridian MS 39309

Landholding Agency: Navy

Property Number: 77200720047

Status: Unutilized

Reasons: Secured Area

Unsuitable Properties

Building

Mississippi

Bldgs. 212, 228

Naval Air Station

Meridian MS 39309

Landholding Agency: Navy

Property Number: 77200720048

Status: Unutilized

Reasons: Secured Area

Bldgs. 266, 267

Naval Air Station

Meridian MS 39309

Landholding Agency: Navy

Property Number: 77200720049

Status: Unutilized

Reasons: Secured Area

Bldgs. 351, 445

Naval Air Station

Meridian MS 39309

Landholding Agency: Navy

Property Number: 77200720050

Status: Unutilized

Reasons: Secured Area

Bldgs. 182, 183

Naval Air Station

Meridian MS 39309

Landholding Agency: Navy

Property Number: 77200810014

Status: Unutilized

Reasons: Secured Area

Unsuitable Properties

Building

Mississippi

Bldgs. 222, 230, 326

Naval Air Station

Meridian MS 39309

Landholding Agency: Navy

Property Number: 77200810015

Status: Unutilized

Reasons: Secured Area

Nevada

3 Bldgs.

Nevada Test Site

23-790, 06-CP50, 26-2107

Mercury Co: Nye NV 89023

Landholding Agency: Navy

Property Number: 77200510025

Status: Excess

Reasons: Other—contamination, Secured Area

Units 501-521

Naval Air Station

Fallon NV

Landholding Agency: Navy

Property Number: 77200710017

Status: Excess

Reasons: Secured Area

Unsuitable Properties

Building

New Jersey

Bldgs. 105, 111, 266

Naval Air Eng. Station

Lakehurst NJ 08733

Landholding Agency: Navy

Property Number: 77200820001

Status: Unutilized

Reasons: Secured Area, Extensive deterioration

Bldgs. 464, 480

Naval Air Eng. Station

Lakehurst NJ 08733

Landholding Agency: Navy

Property Number: 77200820002

Status: Unutilized

Reasons: Extensive deterioration, Secured Area

Bldgs. 539, 560, 565

Naval Air Eng. Station

Lakehurst NJ 08733

Landholding Agency: Navy

Property Number: 77200820003

Status: Unutilized

Reasons: Extensive deterioration, Secured Area

Unsuitable Properties

Building

New Mexico

6 Bldgs.

Cannon AFB

Curry NM 88102

Landholding Agency: Air Force

Property Number: 18200830009

Status: Underutilized

Directions: 1156, 1160, 1245, 1256, 1258, 1260

Reasons: Secured Area

Bldgs. 20612, 29071, 37505

Kirtland AFB

Bernalillo NM 87117

Landholding Agency: Air Force

Property Number: 18200830010

Status: Unutilized

Reasons: Secured Area

North Carolina

Bldg. 82

Marine Corps Air Station

Cherry Point Co: Craven NC 28533

Landholding Agency: Navy

Property Number: 77200510009

Status: Underutilized

Reasons: Secured Area

Unsuitable Properties

Building

North Carolina

Bldg. 4314

Marine Corps Air Station

Cherry Point Co: Craven NC 28533

Landholding Agency: Navy

Property Number: 77200510010

Status: Underutilized

Reasons: Secured Area

Bldg. 124

Marine Corps Air Station

Cherry Point Co: Craven NC 28533

Landholding Agency: Navy

Property Number: 77200510023

Status: Underutilized

Reasons: Secured Area

Bldgs. 73, 95, 1018

Marine Corps Air Station

Cherry Point NC

Landholding Agency: Navy

Property Number: 77200620003

Status: Unutilized

Reasons: Secured Area

Bldg. 499

Marine Corps Air Station

Cherry Point NC

Landholding Agency: Navy

Property Number: 77200620038

Status: Unutilized

Reasons: Secured Area

Unsuitable Properties

Building

North Carolina

Bldgs. 3177, 3885

Marine Corps Air Station

Cherry Point NC

Landholding Agency: Navy

Property Number: 77200620039

Status: Unutilized

Reasons: Secured Area

Bldg. 4473

Marine Corps Air Station

Cherry Point NC

Landholding Agency: Navy

Property Number: 77200620040

Status: Unutilized

Reasons: Secured Area

Bldg. 4523

Marine Corps Air Station

Cherry Point NC

Landholding Agency: Navy

Property Number: 77200620041

Status: Unutilized

Reasons: Secured Area

Unsuitable Properties

Building

Pennsylvania

Bldgs. 13, 90, 93, 97

Naval Support Activity

Philadelphia PA 19111

Landholding Agency: Navy

Property Number: 77200820012

Status: Excess

Reasons: Secured Area, Extensive deterioration

Bldgs. 431, 483

Naval Support Activity

Philadelphia PA 19111

Landholding Agency: Navy

Property Number: 77200820013

Status: Excess

Reasons: Within 2000 ft. of flammable or explosive material, Extensive deterioration

Bldgs. 530, 534, 567, 585

Naval Support Activity

Philadelphia PA 19111

Landholding Agency: Navy

Property Number: 77200820014

Status: Excess

Reasons: Within 2000 ft. of flammable or explosive material, Extensive deterioration

Unsuitable Properties

Building

Pennsylvania

Bldgs. 618, 743

Naval Support Activity

Philadelphia PA 19111

Landholding Agency: Navy

Property Number: 77200820015

Status: Excess

Reasons: Extensive deterioration

Rhode Island

Sheds 1 & 2

Narragansett Laboratory

Narragansett RI 02882

Landholding Agency: Commerce

Property Number: 27200830001

Status: Excess

Reasons: Extensive deterioration, Secured Area

Bldg. 305CP

Naval Station

Newport RI 02841

Landholding Agency: Navy

Property Number: 77200820004

Status: Excess

Reasons: Secured Area, Extensive deterioration

Unsuitable Properties

Building

Rhode Island

Bldg. 1A-CC

Naval Station

Newport RI 02841

Landholding Agency: Navy

Property Number: 77200820022

Status: Excess

Reasons: Secured Area

Bldg. 164

Naval Station

Newport RI 02841

Landholding Agency: Navy

Property Number: 77200820036

Status: Excess

Reasons: Within 2000 ft. of flammable or explosive material, Floodway, Secured Area

Bldgs. 348, 85CHI

Naval Station

Newport RI

Landholding Agency: Navy

Property Number: 77200820043

Status: Unutilized

Reasons: Secured Area

Unsuitable Properties

Building

Rhode Island

Facility 670

Naval Station

Harbor Island

Newport RI 02841

Landholding Agency: Navy

Property Number: 77200820044

Status: Excess

Reasons: Extensive deterioration, Secured Area

South Carolina

Bldgs. 1000 thru 1021

Naval Weapons Station

Goose Creek Co: Berkeley SC 29445

Landholding Agency: Navy

Property Number: 77200440018

Status: Unutilized

Reasons: Secured Area

Bldg. 102

Marine Corps Recruit Depot

Parris Island Co: Beaufort SC 29905

Landholding Agency: Navy

Property Number: 77200530017

Status: Unutilized

Reasons: Extensive deterioration, Secured Area, Floodway

Unsuitable Properties

Building

South Carolina

21 Bldgs.

Naval Weapons Station

Goose Creek Co: Berkely SC 29445

Landholding Agency: Navy

Property Number: 77200620034

Status: Unutilized

Directions: 4, 167C, 174, 180, 350, 383, 400, 410, 769, 790, 823, 824, 904, 930, 930A, 953, 953A, 971, 975, 2305, 3526

Reasons: Within 2000 ft. of flammable or explosive material, Secured Area

Bldg. 1148

Naval Weapons Station

Goose Creek Co: Berkeley SC 29445

Landholding Agency: Navy

Property Number: 77200630044

Status: Excess

Reasons: Extensive deterioration

Bldg. 200

Marine Corps Recruit Depot

Parris Island SC 29905

Landholding Agency: Navy

Property Number: 77200720018

Status: Unutilized

Reasons: Floodway, Secured Area

Unsuitable Properties

Building

South Carolina

Bldgs. 908, 1ATX211-1ATX220

Naval Weapons Station

Goose Creek SC 29445

Landholding Agency: Navy

Property Number: 77200810029

Status: Unutilized

Reasons: Secured Area, Within 2000 ft. of flammable or explosive material

Bldgs. 40, 48, 856

Naval Weapons Station

Goose Creek SC 29445

Landholding Agency: Navy

Property Number: 77200810030

Status: Unutilized

Reasons: Secured Area

Within 2000 ft. of flammable or explosive material

Bldgs. 934, 2333

Naval Weapons Station

Goose Creek SC 29445

Landholding Agency: Navy

Property Number: 77200810031

Status: Unutilized

Reasons: Secured Area, Within 2000 ft. of flammable or explosive material

Unsuitable Properties

Building

South Dakota

Bldg. 6927

Ellsworth AFB

Meade SD 57706

Landholding Agency: Air Force

Property Number: 18200830011

Status: Unutilized

Reasons: Secured Area, Within 2000 ft. of flammable or explosive material

Tennessee

Bldgs. 2, 3, 5

Naval/Marine Corps Rsv Ctr

Knoxville Co: Knox TN 37920

Landholding Agency: Navy

Property Number: 77200530018

Status: Unutilized

Reasons: Extensive deterioration, Secured Area

Bldgs. 9720-03, 9720-06

Y-12 Natl Nuclear Security Complex

Oak Ridge TN 37831

Landholding Agency: Navy

Property Number: 77200720038

Status: Unutilized

Reasons: Secured Area

Unsuitable Properties

Building

Texas

Bldgs. 4-24, 4-27, 4-29

Pantex Plant

Amarillo TX 79120

Landholding Agency: Energy

Property Number: 41200830003

Status: Unutilized

Reasons: Secured Area, Within 2000 ft. of flammable or explosive material

Bldg. 11-027

Pantex Plant

Amarillo TX 79120

Landholding Agency: Energy

Property Number: 41200830004

Status: Unutilized

Reasons: Within 2000 ft. of flammable or explosive material, Secured Area

3 Bldgs.

Pantex Plant 12-0245, 12-041SS, 12-075A

Amarillo TX 79120

Landholding Agency: Energy

Property Number: 41200830005

Status: Unutilized

Reasons: Secured Area

Within 2000 ft. of flammable or explosive material

Unsuitable Properties

Building

Texas

Bldg. 1732

Naval Air Station

Corpus Christi Co: Nueces TX

Landholding Agency: Navy

Property Number: 77200540007

Status: Excess

Reasons: Secured Area, Extensive deterioration

Bldg. 243

Naval Air Station Joint Reserve Base

Ft. Worth Co: Tarrant TX 76127

Landholding Agency: Navy

Property Number: 77200640035

Status: Unutilized

Reasons: Extensive deterioration, Secured Area

Bldg. 1430

Naval Air Station Joint Reserve Base

Ft. Worth Co: Tarrant TX 76127

Landholding Agency: Navy

Property Number: 77200640036

Status: Unutilized

Reasons: Extensive deterioration, Secured Area

Unsuitable Properties

Building

Texas

Bldg. 1500

Naval Air Station Joint Reserve Base

Ft. Worth Co: Tarrant TX 76127

Landholding Agency: Navy

Property Number: 77200640037

Status: Unutilized

Reasons: Secured Area, Extensive deterioration

Bldg. 4151

Naval Air Station Joint Reserve Base

Ft. Worth Co: Tarrant TX 76127

Landholding Agency: Navy

Property Number: 77200640038

Status: Unutilized

Reasons: Extensive deterioration, Secured Area

Bldgs. 3379, 3380

Naval Air Station

Ft. Worth Co: Tarrant TX 76127

Landholding Agency: Navy

Property Number: 77200810023

Status: Unutilized

Reasons: Extensive deterioration, Secured Area

Unsuitable Properties

Building

Utah

5 Bldgs.

Naval Industrial Ordinance Plant

Magna UT 84044

Landholding Agency: Navy

Property Number: 77200720033

Status: Unutilized

Directions: 4D, 6A, 6C, 8C, 10B

Reasons: Secured Area, Within 2000 ft. of flammable or explosive material

4 Bldgs.

Naval Industrial Ordinance Plant

Magna UT 84044

Landholding Agency: Navy

Property Number: 77200720034

Status: Unutilized

Directions: 11, 15, 16, 19

Reasons: Within 2000 ft. of flammable or explosive material, Secured Area

Bldgs. 22A, 22B, 22C

Naval Industrial Ordinance Plant

Magna UT 84044

Landholding Agency: Navy

Property Number: 77200720035

Status: Unutilized

Reasons: Within 2000 ft. of flammable or explosive material, Secured Area

Unsuitable Properties

Building

Utah

Bldgs. 23A, 23B, 23C

Naval Industrial Ordinance Plant

Magna UT 84044

Landholding Agency: Navy

Property Number: 77200720036

Status: Unutilized

Reasons: Within 2000 ft. of flammable or explosive material, Secured Area

4 Bldgs.

Naval Industrial Ordinance Plant

Magna UT 84044

Landholding Agency: Navy

Property Number: 77200720037

Status: Unutilized

Directions: 33, 45B, 45C, 46D

Reasons: Within 2000 ft. of flammable or explosive material, Secured Area

Virginia

Bldgs. 500, 501

Naval Weapon Station

Yorktown VA 23691

Landholding Agency: Navy

Property Number: 77200640012

Status: Excess

Reasons: Extensive deterioration

Unsuitable Properties

Building

Virginia

Bldg. 628

Naval Weapon Station

Yorktown VA 23691

Landholding Agency: Navy

Property Number: 77200640013

Status: Excess

Reasons: Extensive deterioration

Bldg. 2398

Naval Station

Norfolk VA

Landholding Agency: Navy

Property Number: 77200730021

Status: Excess

Reasons: Secured Area

Bldgs. 375, 502, 502A

Naval Weapons Station

Yorktown VA 23691

Landholding Agency: Navy

Property Number: 77200810002

Status: Excess

Reasons: Secured Area, Extensive deterioration

Unsuitable Properties

Building

Virginia

Bldgs. 503, 503A, 504

Naval Weapons Station

Yorktown VA 23691

Landholding Agency: Navy

Property Number: 77200810003

Status: Excess

Reasons: Secured Area, Extensive deterioration

Bldgs. 505, 505A

Naval Weapons Station

Yorktown VA 23691

Landholding Agency: Navy

Property Number: 77200810004

Status: Excess

Reasons: Secured Area, Extensive deterioration

Bldgs. 1213, 1979

Naval Weapons Station

Yorktown VA 23691

Landholding Agency: Navy

Property Number: 77200810005

Status: Excess

Reasons: Secured Area, Extensive deterioration

Unsuitable Properties

Building

Virginia

Bldgs. 2007, 2008

Naval Weapons Station

Yorktown VA 23691

Landholding Agency: Navy

Property Number: 77200810006

Status: Excess

Reasons: Secured Area, Extensive deterioration

Bldgs. 439, 466

Naval Weapon Station

Yorktown VA 23691

Landholding Agency: Navy

Property Number: 77200820016

Status: Excess

Reasons: Secured Area

Bldgs. 760, 761

Naval Weapon Station

Yorktown VA 23691

Landholding Agency: Navy

Property Number: 77200820017

Status: Excess

Reasons: Secured Area

Bldgs. 1820, 1895

Naval Weapon Station

Yorktown VA 23691

Landholding Agency: Navy

Property Number: 77200820018

Status: Excess

Reasons: Secured Area

Unsuitable Properties

Building

Virginia

Bldgs. 1977, 1978, 1983

Naval Weapon Station

Yorktown VA 23691

Landholding Agency: Navy

Property Number: 77200820019

Status: Excess

Reasons: Secured Area

Bldg. CAD-RR

Naval Weapon Station

Yorktown VA 23691

Landholding Agency: Navy

Property Number: 77200820020

Status: Excess

Reasons: Secured Area

Washington

Bldg. 529

Puget Sound Naval Shipyard

Bremerton WA 98314-5000

Landholding Agency: Navy

Property Number: 77200040020

Status: Excess

Reasons: Secured Area

Unsuitable Properties

Building

Washington

Bldg. 8

Naval Reserve Center

Spokane WA 99205

Landholding Agency: Navy

Property Number: 77200430025

Status: Excess

Reasons: Extensive deterioration, Secured Area

Bldgs. 10, 11

Naval Reserve Center

Spokane WA 99205

Landholding Agency: Navy

Property Number: 77200430026

Status: Excess

Reasons: Extensive deterioration, Secured Area

Bldgs. 2656-2658

Naval Air Station

Lake Hancock

Coupeville Co: Island WA 98239

Landholding Agency: Navy

Property Number: 77200430027

Status: Unutilized

Reasons: Secured Area

Unsuitable Properties

Building

Washington

Bldgs. 2652, 2705

Naval Air Station

Whidbey

Oak Harbor WA 98277

Landholding Agency: Navy

Property Number: 77200440010

Status: Unutilized

Reasons: Secured Area

Bldgs. 79, 884

NAS Whidbey Island

Seaplane Base

Oak Harbor WA 98277

Landholding Agency: Navy

Property Number: 77200440011

Status: Unutilized

Reasons: Secured Area

Bldg. 121

NAS Whidbey Island

Ault Field

Oak Harbor WA 98277

Landholding Agency: Navy

Property Number: 77200440012

Status: Unutilized

Reasons: Secured Area

Unsuitable Properties

Building

Washington

Bldg. 419

NAS Whidbey Island

Ault Field

Oak Harbor WA 98277

Landholding Agency: Navy

Property Number: 77200440013

Status: Unutilized

Reasons: Secured Area

Bldgs. 2609, 2610

NAS Whidbey Island

Ault Field

Oak Harbor WA 98277

Landholding Agency: Navy

Property Number: 77200440014

Status: Unutilized

Reasons: Secured Area

Bldg. 2753

NAS Whidbey Island

Ault Field

Oak Harbor WA 98277

Landholding Agency: Navy

Property Number: 77200440015

Status: Unutilized

Reasons: Secured Area

Unsuitable Properties

Building

Washington

Bldg. 108

Naval Magazine

Port Hadlock Co: Jefferson WA 98339-9723

Landholding Agency: Navy

Property Number: 77200510015

Status: Unutilized

Reasons: Secured Area, Extensive deterioration

Bldg. 351

Puget Sound Naval Shipyard

Bremerton WA 98314

Landholding Agency: Navy

Property Number: 77200530026

Status: Unutilized

Reasons: Within 2000 ft. of flammable or explosive material, Secured Area

Bldg. 1032

Naval Base

Bangor Tower Site

Silverdale WA 98315

Landholding Agency: Navy

Property Number: 77200630045

Status: Unutilized

Reasons: Within 2000 ft. of flammable or explosive material, Secured Area

Unsuitable Properties

Building

Washington

Bldg. 71

Naval Magazine

Port Hadlock Co: Jefferson WA 98339-9723

Landholding Agency: Navy

Property Number: 77200640007

Status: Unutilized

Reasons: Extensive deterioration, Secured Area

Bldgs. 82, 83

Naval Magazine

Port Hadlock Co: Jefferson WA 98339-9723

Landholding Agency: Navy

Property Number: 77200640008

Status: Unutilized

Reasons: Secured Area, Extensive deterioration

Bldgs. 168, 188

Naval Magazine

Port Hadlock Co: Jefferson WA 98339-9723

Landholding Agency: Navy

Property Number: 77200640009

Status: Unutilized

Reasons: Extensive deterioration, Secured Area

Unsuitable Properties

Building

Washington

Bldg. 729

Naval Magazine

Port Hadlock Co: Jefferson WA 98339-9723

Landholding Agency: Navy

Property Number: 77200640010

Status: Unutilized

Reasons: Extensive deterioration, Secured Area

Bldgs. 910, 921

Naval Magazine

Port Hadlock Co: Jefferson WA 98339-9723

Landholding Agency: Navy

Property Number: 77200640011

Status: Unutilized

Reasons: Secured Area, Extensive deterioration

Bldgs. 407, 447

Naval Base

Bremerton Co: Kitsap WA 98310

Landholding Agency: Navy

Property Number: 77200640014

Status: Excess

Reasons: Secured Area

Unsuitable Properties

Building

Washington

Bldg. 867

Naval Base

Bremerton Co: Kitsap WA 98310

Landholding Agency: Navy

Property Number: 77200640015

Status: Excess

Reasons: Secured Area

Bldgs. 937, 975

Naval Base

Bremerton Co: Kitsap WA 98310

Landholding Agency: Navy

Property Number: 77200640016

Status: Excess

Reasons: Secured Area

Bldg. 1449

Naval Base

Silverdale Co: Kitsap WA 98315

Landholding Agency: Navy

Property Number: 77200640017

Status: Unutilized

Reasons: Secured Area

Bldg. 1670

Naval Base

Silverdale Co: Kitsap WA 98315

Landholding Agency: Navy

Property Number: 77200640018

Status: Unutilized

Reasons: Secured Area

Unsuitable Properties

Building

Washington

Bldgs. 2007, 2801

Naval Base

Silverdale Co: Kitsap WA 98315

Landholding Agency: Navy

Property Number: 77200640019

Status: Unutilized

Reasons: Secured Area

Bldgs. 6021, 6095

Naval Base

Silverdale Co: Kitsap WA 98315

Landholding Agency: Navy

Property Number: 77200640020

Status: Unutilized

Reasons: Secured Area

Bldgs. 6606, 6661

Naval Base

Silverdale Co: Kitsap WA 98315

Landholding Agency: Navy

Property Number: 77200640021

Status: Unutilized

Reasons: Secured Area

Bldgs. 726, 727, 734

Naval Undersea Warfare

Keyport Co: Kitsap WA 98345

Landholding Agency: Navy

Property Number: 77200640022

Status: Unutilized

Reasons: Secured Area, Within 2000 ft. of flammable or explosive material

Unsuitable Properties

Building

Washington

Bldgs. 901, 911

Naval Undersea Warfare

Keyport Co: Kitsap WA 98345

Landholding Agency: Navy

Property Number: 77200640023

Status: Unutilized

Reasons: Secured Area, Within 2000 ft. of flammable or explosive material

Bldgs. 925, 938

Naval Undersea Warfare

Keyport Co: Kitsap WA 98345

Landholding Agency: Navy

Property Number: 77200640024

Status: Unutilized

Reasons: Secured Area, Within 2000 ft. of flammable or explosive material

Bldg. 1020

Naval Undersea Warfare

Keyport Co: Kitsap WA 98345

Landholding Agency: Navy

Property Number: 77200640025

Status: Unutilized

Reasons: Secured Area, Within 2000 ft. of flammable or explosive material

Unsuitable Properties

Building

Washington

Fisher Transit Site

Easement

Jefferson WA

Landholding Agency: Navy

Property Number: 77200710015

Status: Excess

Reasons: Other—Remote Location

Bldgs. 437, 853

Naval Base

Bremerton Co: Kitsap WA 98310

Landholding Agency: Navy

Property Number: 77200710018

Status: Unutilized

Reasons: Secured Area

Bldg. 1039

Naval Base

Bremerton Co: Kitsap WA 98310

Landholding Agency: Navy

Property Number: 77200710019

Status: Unutilized

Reasons: Secured Area, Within 2000 ft. of flammable or explosive material

Unsuitable Properties

Building

Washington

Bldgs. 1400, 1461

Naval Base

Bremerton Co: Kitsap WA 98310

Landholding Agency: Navy

Property Number: 77200710020

Status: Unutilized

Reasons: Secured Area, Within 2000 ft. of flammable or explosive material

Bldg. 6026

Naval Base

Bremerton Co: Kitsap WA 98310

Landholding Agency: Navy

Property Number: 77200710021

Status: Unutilized

Reasons: Secured Area, Within 2000 ft. of flammable or explosive material

Bldgs. 6608, 6609, 6904

Naval Base

Bremerton Co: Kitsap WA 98310

Landholding Agency: Navy

Property Number: 77200710022

Status: Unutilized

Reasons: Within 2000 ft. of flammable or explosive material, Secured Area

Unsuitable Properties

Building

Washington

Bldgs. 110, 116

Naval Air Station

Oak Harbor WA 98278

Landholding Agency: Navy

Property Number: 77200740013

Status: Excess

Reasons: Secured Area

Bldg. 839

Puget Sound Naval Shipyard

Bremerton WA 98314

Landholding Agency: Navy

Property Number: 77200740014

Status: Excess

Reasons: Within 2000 ft. of flammable or explosive material, Secured Area

Bldgs. 402, 403, 2634

Naval Air Station

Oak Harbor Co: Whidbey Island WA 96278

Landholding Agency: Navy

Property Number: 77200810020

Status: Excess

Reasons: Extensive deterioration

Unsuitable Properties

Land

Alabama

Lock & Dam No. 12/Boatyard

Black Warrior River

Tuscaloosa AL

Landholding Agency: GSA

Property Number: 54200830021

Status: Excess

GSA Number: 4-D-AL-0777

Reasons: Floodway

California

Trailer Space

Naval Base

San Diego CA

Landholding Agency: Navy

Property Number: 77200520013

Status: Unutilized

Reasons: Secured Area

Parcels 1, 2, 3, 4

Naval Base

Port Hueneme Co: Ventura CA 93043

Landholding Agency: Navy

Property Number: 77200630003

Status: Underutilized

Reasons: Secured Area

Unsuitable Properties

Land

California

Parcels 11, 12, 13, 14, 15

Naval Base

Port Hueneme Co: Ventura CA 93043

Landholding Agency: Navy

Property Number: 77200630004

Status: Underutilized

Reasons: Secured Area

Sand Spit

Naval Base

Port Hueneme Co: Ventura CA 93043

Landholding Agency: Navy

Property Number: 77200720008

Status: Underutilized

Reasons: Floodway

Hawaii

14.235 parcel

Marine Corps Base

Kaneohe HI 96863

Landholding Agency: Navy

Property Number: 77200830020

Status: Unutilized

Reasons: Secured Area

Unsuitable Properties

Land

Washington

405 sq. ft./Land

Naval Base Kitsap

Bangor WA

Landholding Agency: Navy

Property Number: 77200520060

Status: Unutilized

Reasons: Secured Area

230 sq. ft. land

Naval Magazine

Indian Island WA

Landholding Agency: Navy

Property Number: 77200620037

Status: Underutilized

Reasons: Within 2000 ft. of flammable or explosive material, Secured Area

Tabook Transit Site

Easement

Jefferson WA

Landholding Agency: Navy

Property Number: 77200710016

Status: Excess

Reasons: Other—Remote Location

[FR Doc. E8-22329 Filed 9-25-08; 8:45 am]

BILLING CODE 4210-67-P